DEPARTMENT OF THE INTERIOR

National Park Service

[NPS-PWR-PWRO-01-20-6605; 2310-0087-422]

Wilderness Stewardship Plan/Environmental Impact Statement, Sequoia and Kings Canyon National Parks, Tulare and Fresno Counties, CA

AGENCY: National Park Service, Interior.

ACTION: Notice of Intent to Prepare Environmental Impact Statement for Wilderness Stewardship Plan, Sequoia and Kings Canyon National Parks.

SUMMARY: In accordance with § 102(2)(C) of the National Environmental Policy Act of 1969 (PL91-190) Sequoia and Kings Canyon National Parks (SEKI) are initiating the conservation planning and environmental impact analysis process required to inform consideration of alternative strategies for the future management of SEKI wilderness. The Sequoia-Kings Canyon and John Krebs Wildernesses (an 808,000-acre expanse of wild High Sierra lands that were designated by the California Wilderness Act of 1984 and the Omnibus Public Land Management Act of 2009) are contained wholly within these two national parks. Through this process, SEKI will identify and analyze a range of alternatives for achieving wilderness stewardship objectives, which include providing appropriate types and levels of access for visitors and authorized users, preserving wilderness character, protecting cultural and natural resources, and adhering to legally-mandated management and preservation requirements.

This planning process represents a significant commitment by SEKI to complete a Wilderness Stewardship Plan (WSP) for these two national parks. On April 30, 1997, SEKI published a Notice of Intent to prepare an Environmental Impact Statement (EIS) in the Federal Register to notify the public of the intent to prepare a WSP, and had previously held seven public scoping sessions in communities throughout California between May 28 and October 5, 1996. Based on an analysis of the numerous scoping comments received, and with consideration of a variety of other factors, SEKI determined that the WSP/EIS process should be suspended and that SEKI should instead first prepare a new General Management Plan for the parks.

The General Management Plan (GMP) process was initiated in October 1997 and culminated with a Record of Decision in September 2007 (the Final EIS/General Management Plan/Comprehensive River Management Plan and associated Record of Decision are available at http://www.nps.gov/seki/parkmgmt/gmp.htm). The GMP provides broad, programmatic direction for wilderness management. Importantly, however, the GMP commits SEKI to preparing a tiered plan for the management of wilderness resources, and explains that this tiered plan would be an implementation level plan focused on both SEKI wilderness stewardship overall, as well as stock use within wilderness.

As an implementation level plan, the WSP will provide detailed guidance on a variety of issues including, but not limited to: Day and overnight use; wilderness permitting; use of campfires; wildlife and proper food storage; party size; camping and campsites; human waste management; stock use; meadow management; research activities; wildlife management in wilderness; cultural resources in wilderness; maintenance of trails, bridges, or other necessary infrastructure; and the “minimum requirement” for administration of the areas as Wilderness. Also to be analyzed and determined is the extent to which commercial services are necessary to fulfill the recreational and other purposes of SEKI's Congressionally designated wilderness areas. This “extent necessary” determination for commercial services will be performed to ensure compliance with § 4(d)(5) of the Wilderness Act.

The WSP will reevaluate existing wilderness-related plans and guidance, such as the 1986 Backcountry Management Plan and the 1986 Stock Use and Meadow Management Plan. The WSP will also provide for more detailed management direction on provisions of the California Wilderness Act of 1984, the Omnibus Public Land Management Act of 2009, the NPS Management Policies (2006), and current interagency policies regarding the preservation of wilderness character as they relate to wilderness within SEKI.

How to Comment: In consideration for the complexity and scope of wilderness stewardship issues in SEKI, the period during which comments will be accepted will extend for 90 days. SEKI encourages comments regarding the range of issues which should be addressed, alternative approaches to managing SEKI wilderness areas, and other concerns regarding SEKI wilderness areas or the wilderness planning process. All written comments must be transmitted, postmarked, or hand-delivered no later than July 25, 2011.

The status of the Draft EIS (DEIS) will updated periodically at http://parkplanning.nps.gov/sekiwild. You may request to be added to the project mailing list by mailing or faxing your request to: Superintendent Karen F. Taylor-Goodrich, Sequoia and Kings Canyon National Parks, Attn: Wilderness Stewardship Plan, 47050 Generals Highway, Three Rivers, CA 93271. So that we may plan accordingly, please note in your request whether you will prefer to receive a printed or compact disk copy of the DEIS/WSP when it is released, or just wish to receive a notice that the document is available for review on the Web site (to assist in reducing costs, the public is strongly encouraged to accept compact disks versus printed copies).

In order to ensure that information you may provide or any concerns expressed are fully considered, you may use either of two methods to respond during this scoping period. To respond electronically, you may submit your comments online to the NPS Planning, Environment and Public Comment (PEPC) Web site (http://parkplanning.nps.gov/sekiwild). To submit written comments (e.g., in a letter), you may send them by U.S. Postal Service or other mail delivery service, or hand deliver your comments to the address provided above. Written comments will also be accepted during public scoping meetings. Comments in any format (written or electronic) submitted by an individual or organization on behalf of another individual or organization will not be accepted. It is the practice of the NPS to make all comments available for public review, after the close of the EIS process.

Before including your address, phone number, e-mail address, or other personal identifying information in your comment, you should be aware that your entire comment—including your personal identifying information—may be made publicly available at any time. While you can ask us in your comment to withhold your personal identifying information from public review, we cannot guarantee that we will be able to do so.

SUPPLEMENTARY INFORMATION: At this time SEKI anticipates hosting five public scoping meetings in the San Francisco Bay Area and Los Angeles Area, and in Fresno, Visalia, and Bishop—these are expected to occur during April 25 through April 29, 2011. Confirmed details will be posted on the project Web sites. In addition, a scoping newsletter will be distributed to publicize the meeting details, and to provide a summary of issues and concerns developed through the previous scoping efforts, as well as present additional information about SEKI wilderness areas and the wilderness planning process. This newsletter will be posted on the park planning Web site (http://www.nps.gov/seki/parkmgmt/planning.htm) and the PEPC Web site (noted above), and sent to the SEKI mailing list.

Following due consideration for all comments obtained through this scoping effort, SEKI will prepare the DEIS/WSP. This document will state the purpose and need for Federal action, describe and analyze a range of “action” alternatives (and a “no action” baseline alternative), assess potential environmental consequences of each alternative and provide appropriate impact mitigation strategies, identify the “environmentally preferred” course of action, and explain the process and rationale for determining the “agency-preferred” alternative. The DEIS/WSP will also include an analysis of the extent to which commercial services in wilderness are necessary to realize Wilderness Act purposes. The release of the DEIS/WSP will be formally announced by publication of a Notice of Availability in the Federal Register, and via Web site postings and announcements in local and regional news media. Notifications will also be sent to the project mailing list, as well as to local, State, Federal, and Tribal governments.

Decision Process: Following careful analysis of all responses received concerning the DEIS/WSP, a Final EIS/WSP will be prepared and its availability similarly announced in the Federal Register. Thereafter, but not sooner than 30 days after release of the Final EIS/WSP, a Record of Decision would be prepared. As a delegated EIS, the official responsible for final approval of the SEKI Wilderness Stewardship Plan is the Regional Director, Pacific West Region. Subsequently the official responsible for implementation of the approved plan would be the Superintendent, Sequoia and Kings Canyon National Parks.

Dated: January 5, 2011.
Christine S. Lehnertz,
Regional Director, Pacific West Region.

[FR Doc. 2011-10042 Filed 4-25-11; 8:45 am]

BILLING CODE 4310-X2-P